LEGAL SERVICES CORPORATION

Sunshine Act Meetings

FEDERAL REGISTER CITATION OF PREVIOUS ANNOUNCEMENT: 90 FR 14392.

PREVIOUSLY ANNOUNCED TIME AND DATE OF THE MEETING: April 7, 2025.

CHANGES IN THE MEETING: In the Federal Register notice published on Tuesday, April 1, the Legal Services Corporation announced the April 7, 2025, meeting of the Finance Committee of LSC's Board of Directors. The meeting was announced as fully open to public observation. However, at the beginning of that meeting, the Committee determined it needed to close a portion of the meeting. On a motion of Committee Member Fr. Pius Pietrzyk, seconded by Committee Member John G. Levi (Chairman, LSC Board of Directors), and approved by the unanimous vote of Committee Members present (Fr. Pius Pietrzyk, John G. Levi, Committee Chair Robert J. Grey, Jr., Robert E. Henley, Jr. (Non-Director Member), Rebecca Rapp (Non-Director Member), Paul Snyder (Non-Director Member), and Allan Tanenbaum (Non-Director Member)), the Committee voted to close a portion of the meeting to consider matters related to the Corporation's internal activities and a request to consider and act on a resolution to recommend revising the Corporation's line of credit agreement. No earlier announcement of the change was possible. The meeting closure was authorized under 45 CFR 1622.5(a) and (g).

CONTACT PERSON FOR MORE INFORMATION: Jessica Wechter, Special Assistant to the President, at (202) 295-1626. Questions may also be sent by electronic mail to wechterj@lsc.gov.

Dated: May 7, 2025.
Stefanie Davis,
Deputy General Counsel, Legal Services Corporation.

[FR Doc. 2025-08350 Filed 5-8-25; 11:15 am]

BILLING CODE 7050-01-P